DEPARTMENT OF COMMERCE

[Docket No. 240326-0089]

Indo-Pacific Economic Framework for Prosperity Clean Economy Investor Forum Solicitation of Applications for Participation

AGENCY: International Trade Administration, U.S. Department of Commerce.

ACTION: Notice of withdrawal; reissuance of request for applications.

SUMMARY: The International Trade Administration (ITA) seeks applications for the Department to consider recommending to the Government of Singapore (Singapore) for participation in the Indo-Pacific Economic Framework for Prosperity (IPEF) Clean Economy Investor Forum (Forum) hosted by Singapore on June 5-6, 2024. The Forum was announced on November 16, 2023, in the Joint Statement following an IPEF Ministerial meeting. The Forum participants will help advance the climate objectives of the proposed IPEF Clean Economy Agreement by helping facilitate investments in climate-related projects in the Indo-Pacific region. ITA is seeking applications from the U.S. private sector for ITA to consider recommending to Singapore. This notice withdraws and supersedes a notice and request for applications published March 28, 2024.

DATES: The IPEF Clean Economy Investor Forum will take place on Thursday and Friday, June 5-6, 2024.

Applications for participation should be submitted by 5 p.m. EST on April 16, 2024. Applications submitted in response to the notice published March 28, 2024 need not be resubmitted.

ADDRESSES: Interested companies should submit their applications for immediate consideration to ITA at IPEFInvestorForum@trade.gov.

FOR FURTHER INFORMATION CONTACT: Ava Jamerson, Policy Advisor, Office of the Under Secretary of Commerce for International Trade, 1401 Constitution Avenue NW, Washington, DC 20230; email: ava.jamerson@trade.gov; telephone: 202.823.0686. For additional information about IPEF, please visit: https://www.commerce.gov/ipef. You can find the latest information about the Clean Economy Pillar at: https://www.commerce.gov/ipef/pillar-iii and at https://www.commerce.gov/sites/default/files/2023-11/US-Factsheet-SF-Pillar-III.pdf.

SUPPLEMENTARY INFORMATION:

I. Background

This notice withdraws a notice published on March 28, 2024 (89 FR 21488) and reissues, with corrected information, a request for applications to be considered for participation in the Indo-Pacific Economic Framework for Prosperity Clean Economy Investor Forum.

In May 2022, the United States launched the Indo-Pacific Economic Framework for Prosperity. IPEF is part of the Biden Administration's commitment to strengthening ties with allies and partners and tackling 21st Century economic challenges in the Indo-Pacific region.

IPEF seeks to advance resilience, sustainability, inclusiveness, economic growth, fairness, and competitiveness for the 14 IPEF partner economies—Australia, Brunei Darussalam, Fiji, India, Indonesia, Japan, Republic of Korea, Malaysia, New Zealand, the Philippines, Singapore, Thailand, the United States, and Vietnam. IPEF also will provide tangible benefits that fuel economic activity and investment, promote sustainable and inclusive economic growth, and benefit workers and consumers across the region.

The IPEF partners are launching the inaugural IPEF Clean Economy Investor Forum to catalyze investment for sustainable infrastructure and climate technology across IPEF economies to advance the goals of the proposed Clean Economy Agreement, which includes increasing investment flows and financing for climate-related infrastructure, technologies, and projects in the region. The proposed Clean Economy Agreement outlines collaboration through a convening of private and institutional investors to facilitate business matching and investments, as well as sharing expertise and good practices on scaling up clean technology and infrastructure investments.

The Forum is being hosted by Singapore on June 5-6, 2024, and will be attended by the Secretary of Commerce and her counterparts from the 13 other IPEF partner countries. Its purpose is to convene a diverse set of stakeholders from across the United States and the Indo-Pacific region to gain market insights, make industry and government contacts, solidify business strategies, and identify funding for specific projects to advance the goals of the proposed Clean Economy Agreement.

The Forum will focus on the markets of the 14 partner economies that are actively engaging in the proposed Clean Economy Agreement, with a particular focus on emerging economies. The scope of climate issues in which the Forum seeks to facilitate trade and investment will be informed by issues covered in the proposed Clean Economy Agreement, including efforts towards energy security and transition, climate resilience and adaptation, and greenhouse gas emissions mitigation.

Each country will be asked to put forward individual representatives from their countries' private sectors to participate in the Forum for consideration by Singapore. Singapore will ultimately select who to invite to the Forum. The International Trade Administration seeks applications from the U.S. private sector to be recommended as participants in the Forum, including but not limited to investors, companies, and non-profit organizations.

II. Criteria

Singapore expects to invite approximately 20-50 participants from the U.S. private sector, at its discretion. ITA is seeking applications from the U.S. private sector, which it will consider based on the below criteria. Through this process, ITA will prepare recommendations for final approval by the Department and then share with Singapore for Singapore's consideration and decision. ITA is primarily focused on senior executives from organizations including investors, companies, and non-profit organizations.

Interested companies should submit their applications for immediate consideration to ITA according to the instructions in the DATES and ADDRESSES headings above. The following criteria will be used to identify prospective participants. These participants will be considered through a holistic analysis and are not required to meet each element listed below:

(1) Level of executive representation;

(2) Consistency of the applicant's goals and objectives with the stated scope of the Forum;

(3) Alignment with the proposed Clean Economy Agreement objectives;

(4) Focus on IPEF markets, such as experience or demonstrated interest in investing in the region in the next 18 months in one or more IPEF markets;

(5) Ability to fulfill and support the objectives of the Forum (e.g., significant funds and/or assets to support the types of projects envisioned); and

(6) Headquarters in the United States.

The Department may consider other information as it deems relevant and may request additional information/clarification from applicants. The Department will consider applications previously submitted in response to the withdrawn notice and request for applications published on March 28, 2024 (89 FR 21488); applicants need not resubmit information.

Please do not send company or organization brochures.

Applications received after April 16, 2024 will be considered only if space and scheduling constraints permit and if Singapore continues to accept recommendations.

Applicants selected to be recommended to Singapore will be notified.

III. Request for Applications

To be considered, all applications should include the following information, as applicable:

(1) Organization Name;

(2) U.S. State of Incorporation;

(3) Corporate Headquarters;

(4) Principal Place of Business;

(5) Main Address (Street Address, City, State, and Zip Code);

(6) List of Subsidiary or Affiliate Offices in Asia;

(7) Industry Area(s);

(8) Main Products and/or Services;

(9) A brief (up to three page) Statement of Interest explaining how you meet the selection criteria listed above;

(10) Name, title, work email, phone number of your Chief Executive Officer, President, Chief Investment Officer, or other senior executive who would represent the organization at the Forum;

(11) Name, title, work email, and phone number of the main working-level point of contact that will facilitate the senior executive's participation in the Forum; and

(12) Name, title, work email, and phone number of one optional accompanying staff person.

Public Burden Statement

A Federal agency may not conduct or sponsor, and a person is not required to respond to, nor shall a person be subject to a penalty for failure to comply with an information collection subject to the requirements of the Paperwork Reduction Act of 1995 unless the information collection has a currently valid OMB Control Number. The approved OMB Control Number for this information collection is 0625-0143. Without this approval, we could not conduct this information collection. Public reporting for this information collection is estimated to be approximately 1.5 hour per response, including the time for reviewing instructions, searching existing data sources, gathering and maintaining the data needed, and completing and reviewing the information collection. All responses to this information collection are voluntary. Send comments regarding this burden estimate or any other aspect of this information collection, including suggestions for reducing this burden to the International Trade Administration Paperwork Reduction Act Program: pra@trade.gov or to Katelynn Byers, ITA PRA Process Administrator: Katelynn.Byers@trade.gov.

Privacy Act Statement

The collection, maintenance, and disclosure of this information is governed by the Privacy Act of 1974 (5 U.S.C. 552a). The Department of Commerce is authorized to collect this information pursuant to authorities that include but are not limited to: 15 U.S.C. 1512. The principal purposes for which the Department will use the information is to assist in selecting the U.S. representatives to recommend to Singapore to participate in the Forum. Information received will be maintained in COMMERCE/DEPT-23, Information Collected Electronically in Connection with Department of Commerce Activities and Programs. One of the routine uses for this information includes providing it to other registrants, including the Government of Singapore, to facilitate company/organization matchmaking (Routine Use 1). A complete set of routine disclosures is included in the system of records notice, published both in the Federal Register and on the Department's website at: https://www.commerce.gov/opog/privacy/system-records-notice. Disclosing this information to the Department of Commerce is voluntary. However, if you do not provide this information, or only provide part of the information requested, you may not be considered for selection as U.S. representatives to the Forum.

Authority: 15 U.S.C. 1512.

Dated: March 28, 2024.
Diane Farrell,
Deputy Under Secretary for International Trade.

[FR Doc. 2024-07003 Filed 3-29-24; 11:15 am]

BILLING CODE 3510-25-P